DEPARTMENT OF AGRICULTURE

Animal and Plant Health Inspection Service

7 CFR Part 301

[Docket No. APHIS-2014-0023]

Gypsy Moth Generally Infested Areas; Additions in Minnesota, Virginia, West Virginia, and Wisconsin

AGENCY: Animal and Plant Health Inspection Service, USDA.

ACTION: Affirmation of interim rule as final rule.

SUMMARY: We are adopting as a final rule, without change, an interim rule that amended the gypsy moth regulations by adding areas in Minnesota, Virginia, West Virginia, and Wisconsin to the list of generally infested areas based on the detection of infestations of gypsy moth in those areas. As a result of the interim rule, the interstate movement of regulated articles from those areas was restricted. The interim rule was necessary to prevent the artificial spread of the gypsy moth to noninfested areas of the United States.

DATES: Effective on September 4, 2015, we are adopting as a final rule the interim rule published at 80 FR 12916-12917 on March 12, 2015.

FOR FURTHER INFORMATION CONTACT: Mr. Paul Chaloux, National Policy Manager, Emerald Ash Borer Program and Gypsy Moth Program, Plant Protection and Quarantine, APHIS, 4700 River Road Unit 137, Riverdale, MD 20737; (301) 851-2064.

SUPPLEMENTARY INFORMATION: The gypsy moth, Lymantria dispar (Linnaeus), is a destructive pest of forest, shade, and commercial trees such as nursery stock and Christmas trees. The gypsy moth regulations (contained in 7 CFR 301.45 through 301.45-12 and referred to below as the regulations) restrict the interstate movement of regulated articles from generally infested areas to prevent the artificial spread of the gypsy moth.

In an interim rule ¹ effective and published in the Federal Register on March 12, 2015 (80 FR 12916-12917, Docket No. APHIS-2014-0023), we amended the regulations in § 301.45-3(a) by adding the following areas to the list of generally infested areas: Cook and Lake Counties in Minnesota; Tazewell County in Virginia; McDowell, Mercer, Raleigh, Summers, and Wyoming Counties in West Virginia; and Iowa County in Wisconsin. As a result of the interim rule, the interstate movement of regulated articles from these areas was restricted.

¹ To view the interim rule and the comments we received, go to http://www.regulations.gov/#!docketDetail;D=APHIS-2014-0023.

Comments on the interim rule were required to be received on or before May 11, 2015. We received two comments by that date. The comments were from the National Plant Board and an individual. Both commenters supported the interim rule. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 80 FR 12916-12917 on March 12, 2015.

Done in Washington, DC, this 31st day of August 2015.
Kevin Shea,
Administrator, Animal and Plant Health Inspection Service.

[FR Doc. 2015-21998 Filed 9-3-15; 8:45 am]

BILLING CODE 3410-34-P